DEPARTMENT OF TRANSPORTATION

Federal Aviation Administration

14 CFR Part 97

[Docket No. 31063; Amdt. No. 3684]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective February 29, 2016. The compliance date for each SIAP, associated Takeoff Minimums, and ODP is specified in the amendatory provisions.

The incorporation by reference of certain publications listed in the regulations is approved by the Director of the Federal Register as of February 29, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 12, 2016.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
31-Mar-16 | WY | Casper | Casper/Natrona County Intl | 5/0128 | 01/26/16 | ILS OR LOC RWY 3, Amdt 7.
31-Mar-16 | WY | Casper | Casper/Natrona County Intl | 5/0129 | 01/26/16 | VOR/DME RWY 21, Amdt 9.
31-Mar-16 | WY | Casper | Casper/Natrona County Intl | 5/0130 | 01/26/16 | VOR/DME RWY 3, Amdt 6B.
31-Mar-16 | WY | Fort Bridger | Fort Bridger | 5/0252 | 01/26/16 | RNAV (GPS) RWY 22, Amdt 1.
31-Mar-16 | WA | Olympia | Olympia Rgnl | 5/0275 | 01/26/16 | ILS OR LOC RWY 17, Amdt 12A.
31-Mar-16 | AK | New Stuyahok | New Stuyahok | 5/0563 | 01/27/16 | RNAV (GPS) RWY 14, Orig.
31-Mar-16 | AK | New Stuyahok | New Stuyahok | 5/0564 | 01/27/16 | RNAV (GPS) RWY 32, Orig.
31-Mar-16 | MT | Lewistown | Lewistown Muni | 5/0890 | 01/27/16 | Takeoff Minimums and (Obstacle) DP, Amdt 3A.
31-Mar-16 | CO | Buena Vista | Central Colorado Rgnl | 5/0908 | 01/26/16 | RNAV (GPS) RWY 33, Orig-A.
31-Mar-16 | UT | Moab | Canyonlands Field | 5/1609 | 01/27/16 | VOR-A, Amdt 10A.
31-Mar-16 | TN | Nashville | Nashville Intl | 5/1824 | 02/03/16 | RNAV (RNP) Z RWY 2C, Amdt 2A.
31-Mar-16 | TN | Nashville | Nashville Intl | 5/1825 | 02/03/16 | RNAV (RNP) Z RWY 2L, Amdt 2A.
31-Mar-16 | TN | Nashville | Nashville Intl | 5/1827 | 02/03/16 | RNAV (GPS) Y RWY 2R, Amdt 2B.
31-Mar-16 | NE | Scribner | Scribner State | 5/1842 | 02/09/16 | RNAV (GPS) RWY 35, Amdt 1A.
31-Mar-16 | FL | Winter Haven | Winter Haven's Gilbert | 5/1857 | 01/28/16 | RNAV (GPS) RWY 5, Amdt 1A.
31-Mar-16 | CA | Oceanside | Oceanside Muni | 5/1877 | 02/08/16 | VOR-A, Amdt 3D.
31-Mar-16 | CA | Oceanside | Oceanside Muni | 5/1879 | 02/08/16 | GPS RWY 24, Orig-B.
31-Mar-16 | CA | Oceanside | Oceanside Muni | 5/1881 | 02/08/16 | GPS RWY 6, Orig-B.
31-Mar-16 | CA | Tracy | Tracy Muni | 5/2063 | 01/28/16 | RNAV (GPS) RWY 30, Orig-A.
31-Mar-16 | LA | New Orleans | Lakefront | 5/2080 | 02/09/16 | RNAV (GPS) RWY 36L, Orig.
31-Mar-16 | OR | Tillamook | Tillamook | 5/2116 | 01/27/16 | RNAV (GPS) RWY 13, Orig-A.
31-Mar-16 | NC | Raleigh/Durham | Raleigh-Durham Intl | 5/2439 | 01/28/16 | VOR RWY 5R, Amdt 13C.
31-Mar-16 | UT | Duchesne | Duchesne Muni | 5/2465 | 01/28/16 | Takeoff Minimums and (Obstacle) DP, Orig.
31-Mar-16 | UT | Roosevelt | Roosevelt Muni | 5/2474 | 01/28/16 | Takeoff Minimums and (Obstacle) DP, Amdt 1.
31-Mar-16 | MN | St Paul | St Paul Downtown Holman Fld | 5/2707 | 02/08/16 | RNAV (GPS) RWY 32, Orig.
31-Mar-16 | AK | Central | Central | 5/2890 | 01/26/16 | RNAV (GPS) RWY 8, Orig.
31-Mar-16 | AK | Central | Central | 5/2891 | 01/26/16 | RNAV (GPS) RWY 26, Orig.
31-Mar-16 | AK | Togiak Village | Togiak | 5/2972 | 01/28/16 | NDB-B, Amdt 1.
31-Mar-16 | AK | Togiak Village | Togiak | 5/2974 | 01/28/16 | NDB/DME-A, Amdt 1.
31-Mar-16 | GA | Cedartown | Polk County Airport- Cornelius Moore Field | 5/3368 | 02/03/16 | RNAV (GPS) RWY 10, Orig.
31-Mar-16 | GA | Cedartown | Polk County Airport- Cornelius Moore Field | 5/3369 | 02/03/16 | RNAV (GPS) RWY 28, Orig.
31-Mar-16 | AK | Gambell | Gambell | 5/3400 | 01/26/16 | RNAV (GPS) RWY 16, Orig.
31-Mar-16 | AK | Gambell | Gambell | 5/3402 | 01/26/16 | RNAV (GPS) RWY 34, Orig.
31-Mar-16 | MT | Helena | Helena Rgnl | 5/4154 | 01/26/16 | NDB-D, Amdt 3A.
31-Mar-16 | MT | Helena | Helena Rgnl | 5/4156 | 01/26/16 | VOR-A, Amdt 15.
31-Mar-16 | AK | Wales | Wales | 5/4651 | 01/27/16 | RNAV (GPS) RWY 18, Orig-B.
31-Mar-16 | WA | Shelton | Sanderson Field | 5/4663 | 01/27/16 | RNAV (GPS) RWY 5, Orig.
31-Mar-16 | AK | Bettles | Bettles | 5/5221 | 01/27/16 | VOR/DME RWY 1, Amdt 1.
31-Mar-16 | WV | Wheeling | Wheeling Ohio Co | 5/5312 | 01/28/16 | Takeoff Minimums and (Obstacle) DP, Amdt 3.
31-Mar-16 | FL | Plant City | Plant City | 5/5679 | 01/28/16 | RNAV (GPS) RWY 10, Amdt 1B.
31-Mar-16 | AK | Minchumina | Minchumina | 5/5730 | 01/26/16 | Takeoff Minimums and (Obstacle) DP, Amdt 2.
31-Mar-16 | CA | Tracy | Tracy Muni | 5/5796 | 01/26/16 | RNAV (GPS) RWY 26, Orig.
31-Mar-16 | CA | Tracy | Tracy Muni | 5/5797 | 01/26/16 | RNAV (GPS) RWY 12, Amdt 1B.
31-Mar-16 | CA | Tracy | Tracy Muni | 5/5798 | 01/26/16 | VOR/DME RWY 26, Orig.
31-Mar-16 | AK | Point Hope | Point Hope | 5/6615 | 01/26/16 | NDB RWY 1, Amdt 2B.
31-Mar-16 | AK | Point Hope | Point Hope | 5/6622 | 01/26/16 | NDB RWY 19, Amdt 2B.
31-Mar-16 | AL | Tuskegee | Moton Field Muni | 5/6923 | 01/28/16 | RNAV (GPS) RWY 13, Amdt 2A.
31-Mar-16 | AL | Tuskegee | Moton Field Muni | 5/6924 | 01/28/16 | RNAV (GPS) RWY 31, Amdt 2A.
31-Mar-16 | AL | Tuskegee | Moton Field Muni | 5/6925 | 01/28/16 | VOR-A, Amdt 4A.
31-Mar-16 | CA | Placerville | Placerville | 5/7082 | 01/26/16 | RNAV (GPS) RWY 5, Amdt 2.
31-Mar-16 | WY | Jackson | Jackson Hole | 5/7342 | 01/26/16 | RNAV (GPS) Z RWY 19, Amdt 1.
31-Mar-16 | WY | Jackson | Jackson Hole | 5/7343 | 01/26/16 | RNAV (RNP) Y RWY 19, Amdt 1.
31-Mar-16 | WY | Jackson | Jackson Hole | 5/7345 | 01/26/16 | ILS Z OR LOC/DME RWY 19, Orig.
31-Mar-16 | FL | Key West | Key West Intl | 5/7346 | 01/28/16 | RNAV (GPS) RWY 27, Orig.
31-Mar-16 | AK | Seward | Seward | 5/7353 | 01/26/16 | RNAV (GPS)-A, Orig.
31-Mar-16 | IL | Flora | Flora Muni | 5/7383 | 02/09/16 | RNAV (GPS) RWY 21, Amdt 2A.
31-Mar-16 | CA | Oxnard | Oxnard | 5/7768 | 01/27/16 | ILS OR LOC RWY 25, Amdt 13A.
31-Mar-16 | CA | Oxnard | Oxnard | 5/7772 | 01/27/16 | VOR RWY 25, Amdt 10A.
31-Mar-16 | CA | Oxnard | Oxnard | 5/7773 | 01/27/16 | RNAV (GPS) RWY 25, Amdt 1A.
31-Mar-16 | CA | Camarillo | Camarillo | 5/7866 | 01/26/16 | RNAV (GPS) RWY 8, Orig.
31-Mar-16 | WY | Pinedale | Ralph Wenz Field | 5/7931 | 01/28/16 | NDB-A, Orig.
31-Mar-16 | AK | Yakutat | Yakutat | 5/7940 | 01/26/16 | RNAV (GPS) RWY 11, Amdt 4.
31-Mar-16 | CA | San Diego | Brown Field Muni | 5/7981 | 01/27/16 | RNAV (GPS) RWY 8L, Amdt 1A.
31-Mar-16 | AK | Wainwright | Wainwright | 5/8173 | 01/28/16 | NDB RWY 5, Amdt 1.
31-Mar-16 | AK | Homer | Homer | 5/8184 | 01/27/16 | RNAV (GPS) Z RWY 22, Amdt 1B.
31-Mar-16 | AK | Brevig Mission | Brevig Mission | 5/8215 | 01/27/16 | RNAV (GPS) RWY 12, Orig.
31-Mar-16 | AK | Brevig Mission | Brevig Mission | 5/8216 | 01/27/16 | RNAV (GPS) RWY 30, Orig.
31-Mar-16 | AK | Allakaket | Allakaket | 5/8218 | 01/27/16 | RNAV (GPS) RWY 23, Amdt 1.
31-Mar-16 | AK | Allakaket | Allakaket | 5/8221 | 01/27/16 | RNAV (GPS) RWY 5, Amdt 1A.
31-Mar-16 | CO | Denver | Front Range | 5/8292 | 01/27/16 | ILS OR LOC RWY 17, Amdt 1.
31-Mar-16 | CO | Denver | Front Range | 5/8293 | 01/27/16 | RNAV (GPS) RWY 17, Amdt 1.
31-Mar-16 | CO | Denver | Front Range | 5/8294 | 01/27/16 | ILS OR LOC RWY 26, Amdt 5.
31-Mar-16 | CO | Denver | Front Range | 5/8295 | 01/27/16 | NDB RWY 26, Amdt 5.
31-Mar-16 | CO | Denver | Front Range | 5/8297 | 01/27/16 | RNAV (GPS) RWY 26, Amdt 1.
31-Mar-16 | CO | Denver | Front Range | 5/8298 | 01/27/16 | ILS OR LOC RWY 35, Amdt 1.
31-Mar-16 | CO | Denver | Front Range | 5/8299 | 01/27/16 | RNAV (GPS) RWY 35, Amdt 1.
31-Mar-16 | AZ | Prescott | Ernest A Love Field | 5/8468 | 02/08/16 | RNAV (RNP) Z RWY 3R, Amdt 1.
31-Mar-16 | AZ | Bullhead City | Laughlin/Bullhead Intl | 5/8471 | 01/27/16 | RNAV (GPS) RWY 16, Amdt 2.
31-Mar-16 | OR | Sunriver | Sunriver | 5/8576 | 01/26/16 | RNAV (GPS) RWY 18, Orig-C.
31-Mar-16 | OR | Sunriver | Sunriver | 5/8577 | 01/26/16 | VOR/DME RWY 18, Amdt 1B.
31-Mar-16 | TX | Navasota | Navasota Muni | 5/8997 | 02/03/16 | RNAV (GPS) RWY 35, Orig-A.
31-Mar-16 | TX | Navasota | Navasota Muni | 5/8999 | 02/03/16 | VOR-A, Amdt 2.
31-Mar-16 | TX | Navasota | Navasota Muni | 5/9001 | 02/03/16 | RNAV (GPS) RWY 17, Orig-A.
31-Mar-16 | LA | Slidell | Slidell | 5/9020 | 02/09/16 | VOR/DME RWY 18, Amdt 4A.
31-Mar-16 | LA | Slidell | Slidell | 5/9023 | 02/09/16 | RNAV (GPS) RWY 36, Orig-B.
31-Mar-16 | LA | Slidell | Slidell | 5/9025 | 02/09/16 | RNAV (GPS) RWY 18, Orig-A.
31-Mar-16 | IL | Monee | Bult Field | 5/9026 | 02/09/16 | RNAV (GPS) RWY 27, Orig.
31-Mar-16 | IL | Monee | Bult Field | 5/9027 | 02/09/16 | RNAV (GPS) RWY 9, Orig.
31-Mar-16 | CA | Blythe | Blythe | 5/9352 | 01/27/16 | RNAV (GPS) RWY 26, Amdt 1.
31-Mar-16 | NE | Lexington | Jim Kelly Field | 5/9468 | 02/03/16 | RNAV (GPS) RWY 14, Amdt 1A.
31-Mar-16 | WY | Afton | Afton Muni | 5/9483 | 01/26/16 | RNAV (GPS) RWY 34, Amdt 2.
31-Mar-16 | WY | Afton | Afton Muni | 5/9484 | 01/26/16 | RNAV (GPS) RWY 16, Amdt 2.
31-Mar-16 | CA | Napa | Napa County | 5/9545 | 01/28/16 | VOR RWY 6, Amdt 13.
31-Mar-16 | CA | Napa | Napa County | 5/9546 | 01/28/16 | RNAV (GPS) Y RWY 36L, Amdt 2.
31-Mar-16 | CA | Napa | Napa County | 5/9547 | 01/28/16 | ILS OR LOC RWY 36L, Orig-A.
31-Mar-16 | CA | Petaluma | Petaluma Muni | 5/9550 | 01/28/16 | RNAV (GPS) RWY 29, Orig-A.
31-Mar-16 | CA | Groveland | Pine Mountain Lake | 5/9796 | 01/28/16 | Takeoff Minimums and (Obstacle) DP, Orig.
31-Mar-16 | CA | Palo Alto | Palo Alto | 5/9799 | 01/27/16 | VOR/DME RWY 31, Orig-D.
31-Mar-16 | WA | Richland | Richland | 5/9908 | 01/28/16 | RNAV (GPS) RWY 26, Amdt 2.
31-Mar-16 | CA | Bakersfield | Bakersfield Muni | 6/0829 | 01/27/16 | VOR/DME RWY 34, Amdt 1A.
31-Mar-16 | CA | Bakersfield | Bakersfield Muni | 6/0830 | 01/27/16 | RNAV (GPS) RWY 34, Orig-A.
31-Mar-16 | CA | Groveland | Pine Mountain Lake | 6/1151 | 02/09/16 | GPS RWY 27, Orig.
31-Mar-16 | CA | Groveland | Pine Mountain Lake | 6/1152 | 02/09/16 | RNAV (GPS) RWY 9, Orig.
31-Mar-16 | PA | Ebensburg | Ebensburg | 6/1283 | 01/27/16 | RNAV (GPS) RWY 25, Orig-B.
31-Mar-16 | PA | Ebensburg | Ebensburg | 6/1366 | 01/27/16 | RNAV (GPS) RWY 7, Orig-A.
31-Mar-16 | AZ | Chandler | Chandler Muni | 6/2401 | 02/09/16 | NDB RWY 4R, Orig-B.
31-Mar-16 | MT | Roundup | Roundup | 6/2450 | 02/08/16 | RNAV (GPS) RWY 25, Orig-A.
31-Mar-16 | MN | Grand Rapids | Grand Rapids/Itasca Co-Gordon Newstrom Fld | 6/2954 | 02/09/16 | ILS OR LOC RWY 34, Amdt 2.
31-Mar-16 | TX | Jasper | Jasper County-Bell Field | 6/2957 | 02/09/16 | RNAV (GPS) RWY 36, Orig.
31-Mar-16 | IL | Lincoln | Logan County | 6/2960 | 02/08/16 | Takeoff Minimums and (Obstacle) DP, Amdt 1.
31-Mar-16 | MI | Marshall | Brooks Field | 6/2961 | 02/09/16 | RNAV (GPS) RWY 28, Orig-A.
31-Mar-16 | MI | Marshall | Brooks Field | 6/2962 | 02/09/16 | VOR/DME-A, Orig.
31-Mar-16 | AL | Wetumpka | Wetumpka Muni | 6/3254 | 02/08/16 | RNAV (GPS) RWY 27, Orig.
31-Mar-16 | FL | Marathon | The Florida Keys Marathon | 6/3260 | 01/27/16 | NDB-A, Orig.
31-Mar-16 | FL | Marathon | The Florida Keys Marathon | 6/3261 | 01/27/16 | RNAV (GPS) RWY 7, Orig.
31-Mar-16 | FL | Marathon | The Florida Keys Marathon | 6/3262 | 01/27/16 | RNAV (GPS) RWY 25, Amdt 1.
31-Mar-16 | FL | Marathon | The Florida Keys Marathon | 6/3263 | 01/27/16 | Takeoff Minimums and (Obstacle) DP, Amdt 1B.
31-Mar-16 | NH | Claremont | Claremont Muni | 6/3441 | 02/08/16 | NDB-A, Amdt 1.
31-Mar-16 | AL | Wetumpka | Wetumpka Muni | 6/3453 | 02/08/16 | RNAV (GPS) RWY 9, Orig.
31-Mar-16 | AL | Wetumpka | Wetumpka Muni | 6/3454 | 02/08/16 | VOR-A, Amdt 2.
31-Mar-16 | TN | Camden | Benton County | 6/4091 | 02/03/16 | RNAV (GPS) RWY 22, Orig-B.
31-Mar-16 | TN | Camden | Benton County | 6/4092 | 02/03/16 | RNAV (GPS) RWY 4, Orig.
31-Mar-16 | AZ | Prescott | Ernest A Love Field | 6/4364 | 02/08/16 | RNAV (GPS) Y RWY 3R, Orig.
31-Mar-16 | GA | Cairo | Cairo-Grady County | 6/4711 | 02/08/16 | RNAV (GPS) RWY 13, Amdt 1A.
31-Mar-16 | AZ | Prescott | Ernest A Love Field | 6/4865 | 02/08/16 | RNAV (GPS) RWY 12, Orig.
31-Mar-16 | AZ | Prescott | Ernest A Love Field | 6/4867 | 02/08/16 | ILS OR LOC/DME RWY 21L, Amdt 4A.
31-Mar-16 | AZ | Prescott | Ernest A Love Field | 6/4868 | 02/08/16 | RNAV (GPS) RWY 21L, Amdt 2A.
31-Mar-16 | KY | Ashland | Ashland Rgnl | 6/5224 | 01/26/16 | RNAV (GPS) RWY 28, Amdt 1B.
31-Mar-16 | KY | Ashland | Ashland Rgnl | 6/5225 | 01/26/16 | RNAV (GPS) RWY 10, Amdt 1B.
31-Mar-16 | AZ | Kingman | Kingman | 6/6420 | 01/28/16 | VOR/DME RWY 21, Amdt 7A.
31-Mar-16 | AZ | Kingman | Kingman | 6/6421 | 01/28/16 | RNAV (GPS) Y RWY 21, Orig-A.
31-Mar-16 | AZ | Kingman | Kingman | 6/6422 | 01/28/16 | RNAV (GPS) RWY 3, Orig-A.
31-Mar-16 | AZ | Kingman | Kingman | 6/6423 | 01/28/16 | RNAV (GPS) Z RWY 21, Orig-B.
31-Mar-16 | UT | Moab | Canyonlands Field | 6/7780 | 02/03/16 | RNAV (GPS) RWY 3, Orig.

[FR Doc. 2016-04213 Filed 2-26-16; 8:45 am]

BILLING CODE 4910-13-P